DEPARTMENT OF HEALTH AND HUMAN SERVICES

Centers for Disease Control and Prevention

[30Day-06-0298]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

National Home and Hospice Care Survey (NHHCS)(OMB No. 0920-0298)—Reinstatement with Change—National Center for Health Statistics (NCHS), Centers for Disease Control and Prevention.

Background and Brief Description

The NHHCS was conducted in 1992, 1993, 1994, 1996, 1998, and 2000. NHHCS data describe a major segment of the long-term care system and are used extensively for health care research, health planning and public policy. NHHCS provides data on the characteristics of home health and hospice agencies (e.g. Medicare and Medicaid certification, ownership, membership in chains, nursing home, or hospital systems); patients (e.g. demographics, functional status, services received, diagnoses, or sources of payment); and staff (e.g. staffing mix, turnover, benefits, training, or education).

The survey provides detailed information on utilization and staffing patterns, and quality of care variables that are needed to make accurate assessments of the need for and effects of changes in the provision and financing of long-term care for the elderly and disabled. The availability and use of long-term care services are becoming an increasingly important issue as the number of elderly increases and persons with disabilities live longer. Equally as important is ensuring the adequacy and availability of the long-term care workforce. The 2007 NHHCS will include a supplement on home health aides. The upcoming survey has been redesigned and expanded to better meet the data needs of researchers and health care planners working to ensure that quality long-term care will be available for the nation's growing senior population. The survey will utilize both computer-assisted personal interviewing (CAPI) and computer-assisted telephone interviewing (CATI) systems. These computerized systems speed the flow of data, making it possible to release information on a timelier basis and easier for respondents to participate in the survey.

Users of NHHCS data include the National Immunization Program, and the National Center for Injury Prevention and Control CDC; the Congressional Research Office; the Bureau of Health Professions, Health Resources and Services Administration; the Office of the Assistant Secretary for Planning and Evaluation; the Agency for Healthcare Research and Quality; the National Association for Health Care; the National Hospice and Palliative Care Organization; American Health Care Association; Centers for Medicare and Medicaid Services; Bureau of the Census, and the American Association for Retired People. Other users of these data include universities, many in the private sector, foundations, and a variety of users in the print media.

NCHS plans to conduct the next NHHCS in August-December 2007 and during the same months in 2008. These two national surveys follow a pretest of the forms and procedures in August-September 2006. The data collection procedures and content have been extensively revised from those of the previous NHHCS. There is no cost to respondents other than their time to participate. The burden tables below include the average annual burden for the pretest and the national survey. The total estimated annualized burden hours are 6,088.

Estimated Annualized Burden Hours—Pretest
Respondents | Number of respondents | Number of responses/ respondent | Average burden/response (in hours)
Agency level data collection (CAPI) | 17 | 1 | 30/60
Agency Staff Questionnaire | 17 | 1 | 50/60
Current or Discharge Patient Sampling (CAPI) | 17 | 1 | 20/60
Current Home Health Patient Data Collection (CAPI) | 8 | 4 | 25/60
Hospice Discharge Patient Data Collection (CAPI) | 9 | 4 | 25/60
Home Health Aide Sampling (CAPI) | 17 | 1 | 15/60
Home Health Aide Data Collection (CATI) | 133 | 1 | 40/60

Estimated Annualized Burden Hours—National Survey
Respondents | Number of respondents | Number of responses/ respondent | Average burden/response (in hours)
Agency level data collection (CAPI) | 820 | 1 | 30/60
Agency Staff Questionnaire | 820 | 1 | 50/60
Current or Discharge Patient Sampling (CAPI) | 820 | 1 | 20/60
Current Home Health Patient Data Collection (CAPI) | 410 | 8 | 25/60
Hospice Discharge Patient Data Collection (CAPI) | 410 | 8 | 25/60
Home Health Aide Sampling (CAPI) | 433 | 1 | 15/60
Home Health Aide Data Collection (CATI) | 2,598 | 1 | 40/60

Dated: May 31, 2006.
Betsey Dunaway,
Acting Reports Clearance Officer, Centers for Disease Control and Prevention.

[FR Doc. E6-8702 Filed 6-5-06; 8:45 am]

BILLING CODE 4163-18-P